DEPARTMENT OF COMMERCE

Foreign-Trade Zones Board

[B-6-2024]

Proposed Foreign-Trade Zone—Iberia Parish, Louisiana Under Alternative Site Framework; Invitation for Public Comment on Response to Preliminary Recommendation

Pursuant to Section 400.33(e)(2) of the Foreign-Trade Zones (FTZ) Board's regulations (15 CFR part 400), the FTZ Board is inviting public comment on the response to the preliminary recommendation pertaining to the application of the Port of Iberia District to establish a foreign-trade zone in Iberia Parish, Louisiana, under the alternative site framework.

Public comment is invited through January 17, 2025. Rebuttal comments in response to material submitted during the foregoing period may be submitted through February 3, 2025. Submissions shall be addressed to the FTZ Board's Executive Secretary and sent to: ftz@trade.gov.

A copy of the response will be available for public inspection in the “Online FTZ Information Section” section of the FTZ Board's website, which is accessible via www.trade.gov/ftz.

For further information, contact Camille Evans at Camille.Evans@trade.gov.

Dated: December 13, 2025.
Elizabeth Whiteman,
Executive Secretary.

[FR Doc. 2024-30028 Filed 12-17-24; 8:45 am]

BILLING CODE 3510-DS-P